DEPARTMENT OF COMMERCE

Census Bureau

[Docket Number 230728-0178]

RIN 0607-XC070

Annual Integrated Economic Survey

AGENCY: Census Bureau, Department of Commerce.

ACTION: Notice of determination.

SUMMARY: Notice is hereby given that the Bureau of the Census (Census Bureau) is conducting the Annual Integrated Economic Survey (AIES). We have determined that data to be collected in this survey are needed to aid the efficient performance of essential governmental functions and have significant application to the needs of businesses, organizations, and the public. The AIES will provide the only comprehensive national and subnational data on business revenues, expenses, and assets on an annual basis. The data derived from this survey are not publicly available from nongovernmental or other governmental sources.

ADDRESSES: The Census Bureau will make available the reporting instructions to the organizations included in the surveys. Additional copies are available upon written request to the Director, U.S. Census Bureau, 4600 Silver Hill Road, Washington, DC 20233-0101.

FOR FURTHER INFORMATION CONTACT: Nick Orsini, Associate Director for Economic Programs, Telephone: 301-763-1858; Email: Nick.Orsini@census.gov.

SUPPLEMENTARY INFORMATION: In an effort to improve measurements of the economy in the United States, the Census Bureau will conduct the Annual Integrated Economic Survey (AIES). The AIES is a new survey designed to combine several existing Census Bureau annual survey collections to reduce respondent burden and simultaneously increase data quality and operational efficiencies. The AIES integrates and replaces the following existing annual collections: the Annual Retail Trade Survey (ARTS) (Office of Management and Budget (OMB) control number 0607-0013), the Annual Wholesale Trade Survey (AWTS) (OMB control number 0607-0195), the Service Annual Survey (SAS) (OMB control number 0607-0422), the Annual Survey of Manufactures (ASM) (OMB control number 0607-0449), the Annual Capital Expenditures Survey (ACES) (OMB control number 0607-0782), the Manufacturer's Unfilled Orders Survey (M3UFO) (OMB control number 0607-0561), and the Report of Organization (OMB control number 0607-0444).

The Census Bureau plans to conduct the AIES on an annual basis, beginning with a preparatory 2022 AIES dress rehearsal (collected in calendar year 2023) and the full-scale AIES implementation beginning in survey year 2023 (collected in calendar year 2024). The 2022 AIES dress rehearsal will be a small-scale collection that will mimic the collection instrument and procedures planned for the full-scale 2023 AIES. The 2022 AIES dress rehearsal will allow the Census Bureau to examine patterns of response and to determine what additional support respondents will need in future collections. To minimize the burden imposed on companies already in one or more of the seven annual surveys that the AIES will replace, responses submitted for the 2022 AIES dress rehearsal will fulfill survey year 2022 reporting requirements for the integrated surveys. The 2022 AIES dress rehearsal and subsequent full-scale AIES collections are authorized by title 13 U.S.C. 131, 182, and 193. Response to the dress rehearsal and the AIES is mandatory per sections 224 and 225 of title 13 U.S.C. All information collected will be kept confidential, consistent with the provisions of title 13 U.S.C. 9.

The AIES covers all domestic, private, non-farm employer businesses headquartered in the U.S. as defined by the 2017 North American Industry Classification System (NAICS). Exclusions are most foreign operations of U.S. businesses and most government operations (including the U.S. Postal Service), agricultural production companies, and private households. The AIES sample is selected from a frame of approximately 5.4 million companies constructed from the Business Register (BR), which is the Census Bureau's master business list. The 2022 AIES dress rehearsal will sample approximately 8,500 employer businesses and the full-scale AIES will sample approximately 385,000 employer businesses. Of the 385,000 employer businesses, the Census Bureau will select approximately 36,500 companies with 100% probability, based on the complexity of their operations. The remaining companies in the frame will be stratified within sector by geographic category within 3-digit industry NAICS classification. This is an unequal probability sample, with company inclusion probabilities accounting for contribution(s) to both national and subnational estimates of annual payroll.

The AIES estimates will include data on employment; revenue including sales; shipments; receipts; revenue by class of customer; sources of revenue; taxes, contributions; gifts and grants; products; e-commerce activity; operating expenses including purchased services; payroll; benefits; rental payments; utilities; interest; resales; equipment; materials and supplies; research and development; other detailed operating expenses; and assets which includes capital expenditures; inventories; depreciable assets; and robotics.

The AIES will provide continuous and timely national and subnational statistical data on the economy. Government program officials, industry organization leaders, economic and social analysts, business entrepreneurs, and domestic and foreign researchers in academia, business, and government will use statistics from AIES. More details on expected uses of the statistics from the AIES are found in the 30-Day Notice for the AIES (88 FR 19906; April 4, 2023).

Public Comments: The Census Bureau published a Notice of Consideration in the Federal Register on November 4, 2022 (87 FR 66643) giving notice that it was considering a proposal to conduct the AIES. No comments were received in response to that notice. The Census Bureau subsequently published a Notice in the Federal Register on April 4, 2023 (88 FR 19906), which invited comment on the information collection request associated with the AIES. Census received one comment on that latter notice. The commenter agreed that the AIES should reduce respondent burden, increase data quality, and allow greater operational efficiencies. In addition, the commenter supported situations where the AIES may include new questions each year on policy-relevant topics such as technological advances, management and business practices, exporting practices, and globalization. The commenter also requested that Census be required to carry out additional research to ensure a reduction in NAICS code misclassification among survey respondents.

Census Bureau Response to the Public Comment: The Census Bureau supports conducting additional research and identifying opportunities to reduce NAICS misclassification. However, this effort is outside the scope of this action, research should be conducted on a larger-scale and not confined to the AIES. NAICS classification for companies selected in the AIES is driven by the Economic Census and the Census Bureau's BR. The Census Bureau is participating in discussions that are underway regarding a Federal statistical agency “data synchronization” effort across multiple agencies. The Census Bureau agrees to provide a research plan to address NAICS misclassification issues within one year of ICR approval.

OMB Terms of Clearance: OMB approved the 2022 AIES dress rehearsal portion of the Annual Integrated Economic Survey (AIES), including all relevant testing aspects. Prior to conducting the full-scale AIES, the Census Bureau will consult with OMB to determine next steps for clearing the full-scale AIES. In addition, in light of the Census Bureau's finding in Supporting Statement Part B “that NAICS classifications can be unnatural or challenging for some businesses,” the Census Bureau within 1 year of this clearance shall provide OMB a research plan (and relevant research updates) to address such NAICS classification issues. This research plan will include ways the Census Bureau plans to estimate the percentage of respondents across collections that select an incorrect NAICS code; how the Census Bureau plans to estimate the extent and source of differences in NAICS code assignments by the Census Bureau and the Bureau of Labor Statistics for the same establishments; and possible approaches the Census Bureau could take to reduce NAICS misclassification.

Paperwork Reduction Act

Notwithstanding any other provision of law, no person is required to respond to, nor shall a person be subject to a penalty for failure to comply with a collection of information subject to the requirements of the Paperwork Reduction Act (PRA) unless that collection of information displays a currently valid Office of Management and Budget (OMB) control number. In accordance with the PRA, 44 U.S.C., Chapter 45, OMB approved the AIES under the OMB control number 0607-1024.

Based upon the foregoing, I have directed that the Annual Integrated Economic Survey be conducted for the purpose of collecting these data.

Robert L. Santos, Director, Census Bureau, approved the publication of this Notice in the Federal Register.

Dated: August 3, 2023.
Shannon Wink,
Program Analyst, Policy Coordination Office, U.S. Census Bureau.

[FR Doc. 2023-16926 Filed 8-7-23; 8:45 am]

BILLING CODE 3510-07-P